DEPARTMENT OF COMMERCE

International Trade Administration

[Application No. 99-6A002]

Export Trade Certificate of Review

ACTION: Notice of Application to amend the Export Trade Certificate of Review Issued to California Almond Export Association, Application no. 99-6A002.

SUMMARY: The Office of Competition and Economic Analysis (“OCEA”) of the International Trade Administration, Department of Commerce, has received an application to amend an Export Trade Certificate of Review (“Certificate”). This notice summarizes the proposed amendment and requests comments relevant to whether the amended Certificate should be issued.

FOR FURTHER INFORMATION CONTACT: Joseph Flynn, Director, Office of Competition and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 7025-X, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 99-6A002.”

The California Almond Export Association, LLC original Certificate was issued on December 27, 1999 (65 FR 760, January 6, 2000). A summary of the current application for an amendment follows.

Summary of the Application

Applicant: California Almond Export Association, LLC (“CAEA”), 4800 Sisk Road Modesto, CA 95356.

Contact: Bill Morecraft, Chairman, Telephone: (916) 446-8537.

Application No.: 99-6A002.

Date Deemed Submitted: June 4, 2013.

Proposed Amendment: CAEA seeks to amend its Certificate to:

1. Delete the following company as a Member of CAEA's Certificate: North Valley Nut, Inc. (Orland, CA).

2. Change the name of the following Member: Roche Brothers International (Escalon, CA) to Roche Brothers International Family Nut Co. (Escalon, CA)

Dated: June 13, 2013.
Joseph Flynn,
Director, Office of Competition and Economic Analysis.

[FR Doc. 2013-14592 Filed 6-18-13; 8:45 am]

BILLING CODE 3510-DR-P